ENVIRONMENTAL PROTECTION AGENCY

40 CFR Part 52

[EPA-R07-OAR-2017-0143; FRL-9969-14—Region 7]

Air Plan Approval; Iowa; Amendment to the Administrative Consent Order, Grain Processing Corporation, Muscatine, Iowa; Withdrawal of Direct Final Rule

AGENCY: Environmental Protection Agency (EPA).

ACTION: Withdrawal of direct final rule.

SUMMARY: Due to an adverse comment, the Environmental Protection Agency (EPA) is withdrawing the direct final rule for “Air Plan Approval; Iowa; Amendment to the Administrative Consent Order, Grain Processing Corporation, Muscatine, Iowa,” published in the Federal Register on August 25, 2017.

DATES: The direct final rule published at 82 FR 40491, August 25, 2017, is withdrawn effective October 12, 2017.

FOR FURTHER INFORMATION CONTACT: Heather Hamilton, Environmental Protection Agency, Air Planning and Development Branch, 11201 Renner Boulevard, Lenexa, Kansas 66219 at 913-551-7039, or by email at Hamilton.heather@epa.gov.

SUPPLEMENTARY INFORMATION: Due to an adverse comment, EPA is withdrawing the direct final rule to approve a SIP revision submitted by the State of Iowa pertaining to an amendment to the Administrative Consent Order, Grain Processing Corporation, Muscatine, Iowa. In the direct final rule published in the Federal Register on August 25, 2017, (82 FR 40491), we stated that if we received adverse comment by September 25, 2017, the rule would be withdrawn and not take effect. EPA received an adverse comment. We will address those comments in a proposed rulemaking.

List of Subjects in 40 CFR Part 52

Environmental protection, Air pollution control, Intergovernmental relations, Incorporation by reference, Reporting and recordkeeping requirements.

Dated: September 27, 2017.
Cathy Stepp,
Acting Regional Administrator, Region 7.

PART 52—APPROVAL AND PROMULGATION OF IMPLEMENTATION PLANS

Accordingly, the amendment to 40 CFR 52.820 published in the Federal Register on August 25, 2017 (82 FR 40491) on page 40493 is withdrawn effective October 12, 2017.

[FR Doc. 2017-21929 Filed 10-11-17; 8:45 am]

BILLING CODE 6560-50-P